DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The In-Vehicle Driver Feedback study will enable the Department of Energy to establish a rigorous scientific basis for informing consumers about the potential fuel economy benefits of in-vehicle fuel economy feedback devices. The target population consists of 150 volunteer households who are AAA insurance policy holders who carry minimum automobile insurance coverage and hold a valid driver's license. If this testing confirms that fuel economy feedback devices can enable drivers to achieve measurable improvements in fuel economy, the information will be made available to the general public via the Joint Department of Energy and Environmental Protection Agency Web site, http://www.fueleconomy.gov.

DATES: Comments regarding this collection must be received on or before June 1, 2010. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503; and to Mr. Dennis A. Smith, Office of Energy Efficiency and Renewable Energy, U.S. Department of Energy, EE-2G, 1000 Independence Avenue, SW., Washington, DC 20585-0121, Phone: 202-586-1791, Fax: 202-586-2476, E-mail: dennis.a.smith@ee.doe.gov.

FOR FURTHER INFORMATION CONTACT: Mr. Dennis A. Smith, Office of Energy Efficiency and Renewable Energy, U.S. Department of Energy, EE-2G, 1000 Independence Avenue, SW., Washington, DC 20585-0121, Phone: 202-586-1791, Fax: 202-586-2476, E-mail: dennis.a.smith@ee.doe.gov.

SUPPLEMENTARY INFORMATION: This information collection request contains: (1) OMB No.: New; (2) Information Collection Request Title: U.S. Department of Energy Test of Potential Fuel Economy Benefits of In-Vehicle Driver Feedback Devices; (3) Type of Request: New collection; (4) Purpose: The In-Vehicle Driver Feedback Study will evaluate driving behaviors and the effect fuel economy feedback devices will have in changing those behaviors. The data derived from this study will be used to provide the public with information that will enable them to achieve better fuel economy and thereby enable them to save money on fuel consumption which will therefore enable us to reduce greenhouse gas emissions and thereby reduce petroleum consumption. The information obtained via this collection will be made available to the general public via the DOE Sponsored Fuel Economy Guide and associated Web site, http://www.fueleconomy.gov. AAA of Northern California will ask for volunteers for this study. These volunteers will be chosen based on demographics, geography, and ownership of vehicles which currently do not display fuel-economy data; (5) Estimated Number of Respondents: 150 (not an annual collection); (6) Estimated Number of Total Responses: 150; (7) Estimated Number of Burden Hours: 300; (8) Estimated Reporting and Recordkeeping Cost Burden: $350,000.00.

Statutory Authority: U.S.C. 16191; 49 U.S.C. 32908(c)-(3) and (g)(2)(A).

Issued in Washington, DC, on April 20, 2010.
Dennis A. Smith,
National Clean Cities Director, Office of Vehicle Technologies, Energy Efficiency and Renewble Energy, U.S. Department of Energy.

[FR Doc. 2010-9959 Filed 4-28-10; 8:45 am]

BILLING CODE 6450-01-P